DEPARTMENT OF COMMERCE

International Trade Administration

Notice of Scope Rulings

AGENCY: Import Administration, International Trade Administration, Department of Commerce.

DATES: Effective Date: May 30, 2013.

SUMMARY: The Department of Commerce (“Department”) hereby publishes a list of scope rulings and anticircumvention determinations made between October 1, 2012, and December 31, 2012. We intend to publish future lists after the close of the next calendar quarter.

FOR FURTHER INFORMATION CONTACT: Jennifer Moats, AD/CVD Operations, China/NME Group, Import Administration, International Trade Administration, U.S. Department of Commerce, 14th Street and Constitution Avenue NW., Washington, DC 20230; telephone: 202-482-2615.

SUPPLEMENTARY INFORMATION:

Background

The Department's regulations provide that the Secretary will publish in the Federal Register a list of scope rulings on a quarterly basis.¹ Our most recent notification of scope rulings was published on February 8, 2013.² This current notice covers all scope rulings and anticircumvention determinations made by Import Administration between October 1, 2012, and December 31, 2012, inclusive. As described below, subsequent lists will follow after the close of each calendar quarter.

¹ See 19 CFR 351.225(o).

² See Notice of Scope Rulings, 78 FR 9370 (February 8, 2013).

Scope Rulings Made Between October 1, 2012, and December 31, 2012:

Mexico

A-201-805: Circular Welded Non-Alloy Steel Pipe From Mexico

Requestor: LDA Incorporado; finished electrical rigid metal conduit produced by PYTCO, S.A. de C.V. and finished electrical metal tubing produced by Conduit, S.A. de C.V. are not within the scope of the antidumping duty order; November 15, 2012.

People's Republic of China

A-570-836: Glycine From the People's Republic of China

Requestor: Self-initiated by the Department; glycine exported from the People's Republic of China that is further processed in India is within the scope of the antidumping duty order; December 3, 2012.

A-570-886: Polyethylene Retail Carrier Bags From the People's Republic of China

Requestor: NextDoor Design & Manufacturing LLC; its valet laundry bag is not within the scope of the antidumping duty order; October 5, 2012.

A-570-890: Wooden Bedroom Furniture From the People's Republic of China

Requestor: Medline Industries, Inc.; Medline's Hospital Bed End Panels are within the scope of the antidumping duty order; December 21, 2012.

A-570-901: Certain Lined Paper Products From the People's Republic of China

Requestor: Esselte Corporation: Oxford Stone Paper Note Books are within the scope of the antidumping duty order; preliminary ruling December 28, 2012.

A-570-904: Activated Carbon From the People's Republic of China

Requestor: Tobacco Import USA (“TIU”); hookah charcoal tablets imported by TIU are not within the scope of the antidumping duty order; December 17, 2012.

A-570-937/C-570-938: Citric Acid and Certain Citrate Salts From the People's Republic of China

Requestor: The Chemical Company; acetyl tributyl citrate is not within the scope of the antidumping duty and countervailing duty orders; November 19, 2012.

A-570-967/C-570-968: Aluminum Extrusions From the People's Republic of China

Requestor: A.O. Smith Corporation; aluminum anodes for water heaters are not within the scope of the antidumping duty and countervailing duty orders; October 17, 2012.

Requestor: Innovative Controls Inc.; side mount valve controls are not within the scope of the antidumping duty and countervailing duty orders; October 26, 2012.

Requestor: Clenergy (Xiamen) Technology Co. Ltd. (“Clenergy”); Clenergy's solar panel mounting systems are not within the scope of the antidumping duty and countervailing duty orders; October 31, 2012.

Requestor: Valeo Group and its affiliates; certain aluminum inlet parts for automotive heating and cooling systems are within the scope of the antidumping duty and countervailing duty orders; October 31, 2012.

Requestor: Plasticoid Manufacturing Inc.; certain finished aluminum rails for cutting and marking straight edges are within the scope of the antidumping duty and countervailing duty orders; November 13, 2012.

Requestor: Signtex Lighting, Inc.; aluminum mounting plates are within the scope of the antidumping duty and countervailing duty orders; November 14, 2012.

Requestor: UQM Technologies Inc.; certain assembled motor cases are within the scope of the antidumping duty and countervailing duty orders; certain assembled motor cases in stators are not within the scope of the antidumping duty and countervailing duty orders; November 19, 2012.

Requestor: Northern California Glass Management Association and the Curtain Wall Coalition; curtain wall units and other parts and components of curtain walls are within the scope of the antidumping duty and countervailing duty orders; November 30, 2012.

Requestor: Meridian Products LLC; certain refrigerator/freezer trim kits are within the scope of the antidumping duty and countervailing duty orders; December 19 2012.

A-570-504: Petroleum Wax Candles From the People's Republic of China

Requestor: Signature Brands, LLC; 17 of its birthday candles are within the scope of the antidumping duty order; five of its birthday candle models are not within the scope of the antidumping duty order; preliminary ruling October 5, 2012.

Taiwan

A-583-843: Polyethylene Retail Carrier Bags From Taiwan

Requestor: SmileMakers, Inc.; its model Item #TSHP bag is within the scope of the antidumping duty order; November 19, 2012.

Multiple Countries

A-201-837/A-570-954/C-570-955: Certain Magnesia Carbon Bricks From the People's Republic of China and Mexico

Requestor: Duferco Steel Inc.; its tap hole sleeve systems are not within the scope of the antidumping and countervailing duty orders; October 31, 2012.

Anticircumvention Determinations Made Between October 1, 2012, and December 31, 2012:

People's Republic of China

A-570-836: Glycine From the People's Republic of China

Requestor: GEO Specialty Chemicals, Inc. and Chattem Chemicals, Inc.; all glycine produced and/or exported by AICO Laboratories India Ltd. and Salvi Chemical Industries Limited is circumventing the antidumping duty order; December 10, 2012.

A-570-932: Certain Steel Threaded Rod From the People's Republic of China

Requestor: Vulcan Threaded Products, Inc.; certain steel threaded rod containing greater than 1.25 percent chromium exported by Gem-Year Industrial Co. Ltd., is circumventing the antidumping duty order; preliminary ruling December 4, 2012.

Interested parties are invited to comment on the completeness of this list of completed scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: May 17, 2013.
Christian Marsh,
Deputy Assistant Secretary for Antidumping and Countervailing Duty Operations.

[FR Doc. 2013-12765 Filed 5-29-13; 8:45 am]

BILLING CODE 3510-DS-P